DEPARTMENT OF ENERGY

Federal Energy Regulatory Commission

Combined Notice of Filings #1

Take notice that the Commission received the following electric rate filings:

Docket Numbers: ER14-2576-001.

Applicants: Public Service Company of Colorado.

Description: Compliance filing per 35: 2014-10-17_Att-P SGIP Order 792 Errata—Filing to be effective 8/4/2014.

Filed Date: 10/17/14.

Accession Number: 20141017-5062.

Comments Due: 5 p.m. ET 11/7/14.

Docket Numbers: ER15-121-000.

Applicants: Midcontinent Independent System Operator, Inc.

Description: § 205(d) rate filing per 35.13(a)(2)(iii): 2014-10-16_SA 788 Termination ATC-Consumers Energy to be effective 10/17/2014.

Filed Date: 10/16/14.

Accession Number: 20141016-5149.

Comments Due: 5 p.m. ET 11/6/14.

Docket Numbers: ER15-122-000.

Applicants: Southern Company Services, Inc.

Description: Southern Company Services, Inc. submits Notice of Termination of Integrated Transmission System Investment Responsibility Reconciliation Agreement between Georgia Transmission Corporation and Georgia Power Company.

Filed Date: 10/16/14.

Accession Number: 20141016-5163.

Comments Due: 5 p.m. ET 11/6/14.

Docket Numbers: ER15-123-000.

Applicants: Midcontinent Independent System Operator, Inc.

Description: § 205(d) rate filing per 35.13(a)(2)(iii): 2014-10-17 2nd Quarter Tariff Pricing Clean-Up—Filing to be effective 10/18/2014.

Filed Date: 10/17/14.

Accession Number: 20141017-5074.

Comments Due: 5 p.m. ET 11/7/14.

Docket Numbers: ER15-125-000.

Applicants: Premcor Refining Group Inc.

Description: Notice of Cancellation of Market-Based Rate Tariff and Tariff ID of The Premcor Refining Group Inc.

Filed Date: 10/17/14.

Accession Number: 20141017-5097.

Comments Due: 5 p.m. ET 11/7/14.

Docket Numbers: ER15-126-000.

Applicants: Valero Power Marketing LLC.

Description: Notice of Cancellation of Market-Based Rate Tariff and Tariff ID of Valero Power Marketing LLC.

Filed Date: 10/17/14.

Accession Number: 20141017-5099.

Comments Due: 5 p.m. ET 11/7/14.

Docket Numbers: ER15-127-000.

Applicants: PJM Interconnection, L.L.C.

Description: § 205(d) rate filing per 35.13(a)(2)(iii): Service Agreement No. 3234; Queue No. W4-060 to be effective 9/17/2014.

Filed Date: 10/17/14.

Accession Number: 20141017-5129.

Comments Due: 5 p.m. ET 11/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2014.
Nathaniel J. Davis, Sr.,
Deputy Secretary.

[FR Doc. 2014-25342 Filed 10-23-14; 8:45 am]

BILLING CODE 6717-01-P